DEPARTMENT OF VETERANS AFFAIRS

[OMB Control No. 2900-0742]

Agency Information Collection (Survey of Chronic Gastrointestinal Illness in Persian Gulf Veterans) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATE: Comments must be submitted on or before March 1, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0742” in any correspondence.

FOR FURTHER INFORMATION CONTACT: Crystal Rennie, Enterprise Records Service (005R1B), Department of Veterans Affairs, 810 Vermont Avenue NW., Washington, DC 20420, (202) 632-7492, fax (202) 632-7583 or email crystal.rennie@va.gov. Please refer to “OMB Control No. 2900-0742.”

SUPPLEMENTAL INFORMATION:

Titles:

a. Survey of Chronic Gastrointestinal Illness in Persian Gulf Veterans, VA Form 10-21092a.

b. VA Research Consent Form (Cases), VA Form 10-2109b.

c. VA Research Consent Form (Control), VA Form 10-2109c.

OMB Control Number: 2900-0742.

Type of Review: Extension of a currently approved collection.

Abstract: Approximately 25 percent military troops who were deployed in the first Persian Gulf War returned with persistent gastrointestinal symptoms, typical of diarrhea-predominant irritable bowl syndrome. The data collected from the survey will assist VA in determining whether chronic gastrointestinal illness in Persian Gulf Veterans was caused by the presence of bacteria in the intestines and whether eradication of these bacteria reduces symptoms of chronic diarrhea.

An agency may not conduct or sponsor, and a person is not required to respond to a collection of information unless it displays a currently valid OMB control number. The Federal Register Notice with a 60-day comment period soliciting comments on this collection of information was published on October 22, 2012 at pages 64597-64598.

Affected Public: Individuals or households.

Estimated Total Annual Burden:

a. VA Research Consent Form (Cases), VA Form 10-2109a—41 hours.

b. VA Research Consent Form (Control), VA Form 10-2109b—31 hours.

c. Survey of Chronic Gastrointestinal Illness in Persian Gulf Veterans, VA Form 10-21092c—3,000 hours.

Estimated Average Burden Per Respondent:

a. VA Research Consent Form (Cases), VA Form 10-2109a—15 minutes.

b. VA Research Consent Form (Control), VA Form 10-2109b—10 minutes.

c. Survey of Chronic Gastrointestinal Illness in Persian Gulf Veterans, VA Form 10-21092c—45 minutes.

Frequency of Response: One time.

Estimated Number of Respondents:

a. Survey of Chronic Gastrointestinal Illness in Persian Gulf Veterans, VA Form 10-21092a—4,000.

b. VA Research Consent Form (Cases), VA Form 10-21092b—165.

c. VA Research Consent Form (Control), VA Form 10-21092c—189.

Dated: January 23, 2013.
By direction of the Secretary.
William F. Russo,
Deputy Director, Office of Regulations Policy and Management, Office of General Counsel, Department of Veterans Affairs.

[FR Doc. 2013-01948 Filed 1-29-13; 8:45 am]

BILLING CODE 8320-01-P